DEPARTMENT OF TRANSPORTATION

Federal Aviation Administration

14 CFR Part 39

[Docket No. 2000-CE-69-AD]

RIN 2120-AA64

Airworthiness Directives; SOCATA—Groupe Aerospatiale Model TBM 700 Airplanes

AGENCY: Federal Aviation Administration, DOT.

ACTION: Notice of proposed rulemaking (NPRM).

SUMMARY: This document proposes to adopt a new airworthiness directive (AD) that would apply to certain SOCATA—Groupe Aerospatiale (SOCATA) Model TBM 700 airplanes. The proposed AD would require you to install a thermal protection sleeve on the propeller governor flexible cable. The proposed AD is the result of mandatory continuing airworthiness information (MCAI) issued by the airworthiness authority for France. The actions specified by the proposed AD are intended to prevent loss of propeller control because of hardening or blocking of the control cable, which could result in the inability to control propeller pitch and inability to feather the propeller. Such failure could lead to loss of airplane control.

DATES: The Federal Aviation Administration (FAA) must receive any comments on this proposed rule by January 19, 2001.

ADDRESSES: Send three copies of your comments to the Federal Aviation Administration (FAA), Central Region, Office of the Regional Counsel, Attention: Rules Docket No. 2000-CE-69-AD, 901 Locust, Room 506, Kansas City, Missouri 64106. You may read comments at this location between 8 a.m. and 4 p.m., Monday through Friday, except holidays.

You may get service information that applies to the proposed AD from SOCATA Groupe AEROSPATIALE, Customer Support, Aerodrome Tarbes-Ossun-Lourdes, BP 930—F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 894-1160; facsimile: (954) 964-4191. You may read this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on the Proposed AD?

We invite your comments on the proposed rule. You may send whatever written data, views, or arguments you choose. You need to include the rule's docket number and send your comments in triplicate to the address specified under the caption ADDRESSES. We will consider all comments received by the closing date specified above, before acting on the proposed rule. We may change the proposals contained in this action in light of the comments received.

Are there Any Specific Portions of the Proposed AD I Should Pay Attention To?

The FAA specifically invites comments on the overall regulatory, economic, environmental, and energy aspects of the proposed rule that might require a change to the proposed rule. You may look at all comments we receive. We will file a report in the Rules Docket that summarizes each FAA contact with the public that concerns the substantive parts of this proposal.

We are re-examining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How Can I Be Sure FAA Receives My Comment?

If you want us to acknowledge the receipt of your comments, you must include a self-addressed, stamped postcard. On the postcard, write “Comments to Docket No. 2000-CE-69-AD.” We will date stamp and mail the postcard back to you.

Discussion

What Events Have Caused This Proposed AD?

The Direction Générale de l'Aviation Civile (DGAC), which is the airworthiness authority for France, recently notified FAA that an unsafe condition may exist on certain SOCATA Model TBM 700 airplanes. The DGAC reports five occurrences on civilian and military Socata model TBM 700 airplanes where there was damage to the internal sleeve of the flexible propeller control cable. This damage was because of thermal conduction generated by the turboprop left hand exhaust nozzle.

What Are the Consequences if the Condition Is Not Corrected?

The actions specified by the proposed AD are intended to prevent loss of propeller control because of hardening or blocking of the control cable. This could result in the inability to control propeller pitch and inability to feather the propeller. Such failure could lead to loss of airplane control.

Is There Service Information That Applies to this Subject?

SOCATA has issued Service Bulletin SB 70-084, dated September 2000.

What Are the Provisions of This Service Bulletin?

The service bulletin includes procedures for the installation of a thermal protection sleeve on the propeller governor flexible cable.

What Action Did the DGAC Take?

The DGAC classified this service bulletin as mandatory and issued French AD Number 2000-430(A), dated November 15, 2000, to ensure the continued airworthiness of these airplanes in France.

Was This in Accordance With the Bilateral Airworthiness Agreement?

This airplane model is manufactured in France and is type certificated for operation in the United States under the provisions of section 21.29 of the Federal Aviation Regulations (14 CFR 21.29) and the applicable bilateral airworthiness agreement. Following this bilateral airworthiness agreement, the DGAC has kept FAA informed of the situation described above.

The FAA's Determination and an Explanation of the Provisions of the Proposed AD

What Has FAA Decided?

The FAA has examined the findings of the DGAC; reviewed all available information, including the service information referenced above; and determined that:

—the unsafe condition referenced in this document exists or could develop on other SOCATA Model TBM 700 airplanes of the same type design;

—the actions specified in the previously-referenced service information should be accomplished on the affected airplanes; and

—AD action should be taken in order to correct this unsafe condition.

What Would the Proposed AD Require?

This proposed AD would require you to incorporate the actions in the previously referenced service bulletin.

Cost Impact

How Many Airplanes Would the Proposed AD Impact?

We estimate that the proposed AD affects 80 airplanes in the U.S. registry.

What Would Be the Cost Impact of the Proposed AD on Owners or Operators of the Affected Airplanes?

We estimate the following costs to do the proposed modification:

Labor Cost | Parts Cost | Total Cost Per Airplane | Total Cost on U.S. Operators
2 workhours × $60 per hour = $120. | $40 | $120 + $40 = $160 | $160 × 80 = $12,800

Compliance Time of the Proposed AD

What Would Be the Compliance Time of the Proposed AD?

The compliance time of this proposed AD would be within the next 100 hours time-in-service (TIS) after the effective date of the proposed AD or within the next 3 calendar months after the effective date of this proposed AD, whichever occurs first.

Why Is the Compliance Time of the Proposed AD Presented in Both Hours TIS and Calendar Time?

The affected airplanes are used in general aviation operations. Those operators may accumulate 100 hours TIS on the airplane in less than 3 months and many owners have numerous affected airplanes. We have determined that the dual compliance time:

—gives all owners/operators of the affected airplanes adequate time to schedule and do the actions in this proposed AD; and

—ensures that the unsafe condition referenced in this AD will be corrected within a reasonable time period without inadvertently grounding any of the affected airplanes.

What Are the Differences Between the French AD and the Proposed AD?

The French AD requires the modification at the next scheduled inspection and at the latest before December 21, 2000. We propose a requirement that you install the thermal protection sleeve within the next 100 hours time-in-service (TIS), or within the next three calendar months, whichever occurs first.

We cannot legally enforce a compliance time of at the next scheduled inspection. We believe that a compliance time of 100 hours TIS or within the next three months, whichever occurs first, will give the owners or operators of the affected airplanes enough time to have the proposed actions accomplished without compromising the safety of the airplanes.

Regulatory Impact

Would This Proposed AD Impact Various Entities?

The regulations proposed would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

SOCATA—Groupe Aerospatiale: Docket No. 2000-CE-69-AD

(a) What airplanes are affected by this AD? This AD affects Model TBM 700 airplanes, serial numbers 1 thru 156, and 158 thru 163; that are certificated in any category.

(b) Who must comply with this AD? Anyone who wishes to operate any of the above airplanes must comply with this AD.

(c) What problem does this AD address? The actions specified by this AD are intended to prevent loss of propeller control because of hardening or blocking of the control cable, which could result in the inability to control propeller pitch and inability to feather the propeller. Such failure could lead to loss of airplane control.

(d) What actions must I accomplish to address this problem? To address this problem, you must do the following, unless already accomplished:

Actions | Compliance | Procedures
Install a thermal protection sleee on the propeller control cable | Within the next 100 hours time-in-service (TIS) after the effective date of this AD or within the next 3 calendar months after the effective date of this AD, whichever occurs first, unless already done | Do this installation following the ACCOMPLISHMENT INSTRUCTIONS of Socata Service Bulletin SB 70-084, dated September 2000, and the applicable maintenance manual.

(e) Can I comply with this AD in any other way? You may use an alternative method of compliance or adjust the compliance time if:

(1) Your alternative method of compliance provides an equivalent level of safety; and

(2) The Manager, Small Airplane Directorate, approves your alternative. Send your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64016; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from SOCATA Groupe AEROSPATIALE, Customer Support, Aerodrome Tarbes-Ossun-Lourdes, BP 930—F65009 Tarbes Cedex, France; or the Product Support Manager, SOCATA—Groupe AEROSPATIALE, North Perry Airport, 7501 Pembroke Road, Pembroke Pines, Florida 33023. You may look at these documents at FAA, Central Region, Office of the Regional Counsel, 901 Locust, Room 506, Kansas City, Missouri 64106.

Note 2: The subject of this AD is addressed in French AD 2000-430(A), dated November 15, 2000.

Issued in Kansas City, Missouri, on December 7, 2000.
Larry E. Werth,
Acting Manager, Small Airplane Directorate, Aircraft Certification Service.

[FR Doc. 00-31892 Filed 12-13-00; 8:45 am]

BILLING CODE 4910-13-U